ENVIRONMENTAL PROTECTION AGENCY

[FRL-6925-9]

Agency Information Collection Activities: Submission for OMB Review; Comment Request; Reformulated Gasoline and Conventional Gasoline

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Reformulated Gasoline and Conventional Gasoline, OMB Control No. 2060-0277, expiration date December 31, 2000. The ICR describes the nature of the information collection and its expected burden and cost; where appropriate, it includes the actual data collection instrument.

DATES: Comments must be submitted on or before January 29, 2001.

ADDRESSES: Send comments, referencing EPA ICR No. 1591.13 and OMB Control No. 2060-0277, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No. 1591.13. For technical questions about the ICR contact James W. Caldwell, (202) 564-9303, fax (202) 565-2085, caldwell.jim@epa.gov.

SUPPLEMENTARY INFORMATION: Title: Reformulated Gasoline and Conventional Gasoline: Requirements for Refiners, Oxygenate Blenders, and Importers of Gasoline; Requirements for Parties in the Gasoline Distribution Network (40 CFR part 80—subparts D, E and F), OMB Control No. 2060-0277, EPA ICR No. 1591.13, expiring December 31, 2000. This is a request for an extension of a currently approved collection.

Abstract: Gasoline combustion is the major source of air pollution in most urban areas. The Clean Air Act (Act) requires that gasoline dispensed in certain areas with severe air quality problems be reformulated to reduce toxic and ozone-forming (smog) emissions. The Act also requires that in the process of producing reformulated gasoline (RFG), dirty components removed in the reformulation process not be “dumped” into the remainder of the country's gasoline, known as conventional gasoline (CG). The EPA promulgated regulations at 40 CFR part 80 establishing standards for RFG and CG, as specified in the Act, and establishing mandatory reporting and recordkeeping requirements for demonstrating compliance and as an aid to enforcement. The primary requirements are to test each batch of gasoline for various properties, report the results to EPA, and demonstrate compliance with the standards on an annual basis.

The collection of information is necessary for the proper performance of the functions of the Agency and have practical utility. Section 211(k) of the Act specifically recognizes the need for recordkeeping, reporting and sampling/testing requirements for enforcement of this program. This is understandable given the complicated performance requirements and the averaging and trading provisions set forth in the Act. These provisions make it impossible for EPA to determine compliance merely by taking samples of gasoline at various facilities, unlike some other fuels programs. Moreover, in the negotiated regulation process, EPA agreed to accept industry's desire for national averaging, credits, yearly averaging periods, etc. EPA cannot enforce the regulations, as negotiated, without the recordkeeping controls included in the rule, some of which were specifically agreed to by industry (e.g., covered area sampling and testing surveys and quarterly RFG refiner reporting). For example, EPA believes the attest procedures (discussed later) have led to discovery of significant violations and the prevention of future violations and believes that this process is very important. Further, the World Trade Organization ruled that the original RFG regulations discriminate against foreign refiners. EPA revised the RFG regulations to be GATT-consistent. If EPA could not use these enforcement tools for domestic refineries it would not be able to use them for foreign refineries. This would greatly hinder EPA's ability to regulate foreign refiners.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on October 13, 2000, (65 FR 60939). One comment was received.

Burden Statement: The annual public reporting and record keeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Refiners, Oxygenate blenders, Importers of gasoline, Parties in the gasoline distribution network .

Estimated Number of Respondents: 1,190.

Frequency of Response: On occasion, quarterly, annually.

Estimated Total Annual Hour Burden: 101,586 hours.

Estimated Total Annualized Capital, O&M Cost Burden: $23 million.

Send comments on the Agency's need for this information, the accuracy of the provided burden estimates, and any suggested methods for minimizing respondent burden, including through the use of automated collection techniques to the addresses listed above. Please refer to EPA ICR No. 1591.13 and OMB Control No. 2060-0277 in any correspondence.

Dated: December 21, 2000.
Oscar Morales,
Director, Collection Strategies Division.

[FR Doc. 00-33359 Filed 12-28-00; 8:45 am]

BILLING CODE 6560-50-P